DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gear Marking Requirement for Atlantic Large Whale Take Reduction Plan.

OMB Control Number: 0648-0364.

Form Number(s): None.

Type of Request: Regular submission, extension of a current information collection.

Number of Respondents: 3,672 respondents.

Average Hours per Response: Each mark requires approximately 5 minutes of time and each respondent has an average of 47 new marks per year.

Burden Hours: 14,382 hours per year.

Needs and Uses: The gear marking requirements are designed to help NOAA's National Marine Fisheries Service (NMFS) improve the quality of information concerning the taking of endangered right, humpback, and fin whales incidental to commercial fishing operations. Specifically, information collected through gear marking assists NMFS and the Atlantic Large Whale Take Reduction Team (ALWTRT) identify the type of and general location of commercial fisheries that interact with federally protected marine mammals and may result in mortality and serious injury. Accordingly, this information will be used to tailor management measures to reduce the risk of mortality and serious injury of marine mammal incidentals to commercial fishing operations.

Affected Public: Primary respondents are business or other for-profit organizations (fishermen), and individuals or households.

Frequency: All gear must be marked and maintained so marks are visible. On average, gear is replaced every 5-6 years, at which time the new gear must be marked.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2019-27091 Filed 12-16-19; 8:45 am]

BILLING CODE 3510-22-P